NATIONAL COUNCIL ON DISABILITY

Sunshine Act Meetings

DATE AND TIMES: September 16, 2010, 9 a.m.-5:30 p.m.

PLACE: Access Board Conference Room, 1331 F Street, NW., Suite 800, Washington, DC.

STATUS: Closed to the public.

MATTERS TO BE CONSIDERED: Receipt of NCD Strategic planning report and discussion.

CONTACT PERSON FOR MORE INFORMATION: Mark Quigley, Director of Communications, NCD, 1331 F Street, NW., Suite 850, Washington, DC 20004; 202-272-2004, 202-272-2074 (TTY).

Dated: September 2, 2010.
Joan M. Durocher,
Executive Director.

[FR Doc. 2010-22699 Filed 9-8-10; 11:15 am]

BILLING CODE 6820-MA-P